COMMITTEE FOR THE IMPLEMENTATION OF TEXTILE AGREEMENTS

Request for Public Comments on the Extension of Temporary Amendment to the Requirements for Participating in the Special Access Program for Caribbean Basin Countries and the Outward Processing Program

September 5, 2002.

AGENCY: The Committee for the Implementation of Textile Agreements (The Committee).

ACTION: Request for public comments concerning the extension of amendment to the requirements for participation in the Special Access Program and the Outward Processing Program.

FOR FURTHER INFORMATION CONTACT: Richard Stetson, International Trade Specialist, Office of Textiles and Apparel, U.S. Department of Commerce, (202) 482-3400.

SUPPLEMENTARY INFORMATION:

Authority: Section 204 of the Agricultural Act of 1956, as amended (7 U.S.C. 1854); Executive Order 11651 of March 3, 1972, as amended.

In order to qualify for Special Access Program treatment, a textile product must be assembled from U.S. fabric in a Caribbean Basin Initiative (CBI) or Andean Trade Preference Act (ATPA) country with which the United States has entered into a bilateral agreement regarding guaranteed access levels under the Special Access Program. The product must be assembled from fabric formed and cut in the United States; meaning that all fabric components of the assembled product (with the exception of findings and trimmings, including elastic strips) must be U.S. formed and cut. Upon entry into the United States, the product must be classified under heading 9802.00.8015 of the Harmonized Tariff Schedule of the United States.

Findings and trimmings of non-U.S. origin may be incorporated into the assembled product provided they do not exceed 25 percent of the cost of the components of the assembled product. Certain non-U.S. formed, U.S. cut interlinings for suit jackets and suit-type jackets may currently qualify as findings and trimmings under a temporary amendment to the Special Access Program.

A notice and letter to the Commissioner of Customs published in the Federal Register on December 28, 2000 (see 65 FR 82327) extended through December 31, 2002 the exemption period for women's and girls' and men's and boys' chest type plate, “hymo” piece or “sleeve header” of woven or weft inserted warp knit construction of coarse animal hair or man-made filaments used in the manufacture of tailored suit jackets and suit-type jackets in Categories 433, 435, 443, 444, 633, 635, 643 and 644, which are entered under the Special Access Program (9802.00.8015), provided they are cut in the United States.

On January 1, 2000, goods covered under the Outward Processing Program (9802.00.8017) were also authorized to use this exemption, as outlined in the letter and notice to the Commissioner of Customs, dated December 9, 1999 (see 64 FR 69746, published on December 14, 1999).

The purpose of this notice is to request public comment on CITA's intention to extend through December 31, 2004, this exemption for women's and girls' and men's and boys' “hymo” type interlining. There will be a 30-day comment period beginning on September 11, 2002 and extending through October 11, 2002. Anyone wishing to comment or provide data for information regarding domestic production or availability of the products mention above is invited to submit comments or information to James C. Leonard, III, Chairman, Committee for the Implementation of Textile Agreements, U.S. Department of Commerce, Washington, DC 20230: ATTN: Richard Stetson.

Comments or information submitted in response to this notice will be available for public inspection in the Office of Textiles and Apparel, room H3100, U.S. Department of Commerce, 14th and Constitution Avenue, NW., Washington, DC.

The solicitation of comments is not a waiver in any respect of the exemption contained in 5 U.S.C. 553(a)(1) relating to matters which constitute “a foreign affairs function of the United States.”

A description of the textile and apparel categories in terms of HTS numbers is available in the CORRELATION: Textile and Apparel Categories with the Harmonized Tariff Schedule of the United States (see Federal Register notice 66 FR 65178, published on December 18, 2000). Information regarding the 2003 CORRELATION will be published in the Federal Register at a later date.

D. Michael Hutchinson,
Acting Chairman, Committee for the Implementation of Textile Agreements.

[FR Doc.02-23037 Filed 9-10-02; 8:45 am]

BILLING CODE 3510-DR-S